ENVIRONMENTAL PROTECTION AGENCY

[FRL-9500-1]

Clean Water Act Section 303(d): Availability of Three Total Maximum Daily Loads (TMDLs) in Louisiana

AGENCY: Environmental Protection Agency (EPA).

ACTION: Notice of availability.

SUMMARY: This notice announces the availability for comment on the administrative record files and the calculations of three TMDLs prepared by EPA Region 6. This notice covers waters in the State of Louisiana's Lake Pontchartrain Basin that were identified as impaired on the States Section 303(d) list. These TMDLs were completed in response to a court order in the lawsuit styled Sierra Club, et al. v. Clifford, et al., No. 96-0527, (E.D. La.).

DATES: Comments must be submitted in writing to EPA on or before January 20, 2012.

ADDRESSES: Comments on the three TMDLs should be sent to Diane Smith, Environmental Protection Specialist, Water Quality Protection Division, U.S. Environmental Protection Agency Region 6, 1445 Ross Ave., Dallas, TX 75202-2733 or email: smith.diane@epa.gov. For further information, contact Diane Smith at (214) 665-2145 or fax (214)-665-7373. The administrative record files for the three TMDLs are available for public inspection at this address as well. Documents from the administrative record files may be viewed at http://www.epa.gov/earth1r6/6wq/npdes/tmdl/index.htm, or obtained by calling or writing Ms. Smith at the above address. Please contact Ms. Smith to schedule an inspection.

FOR FURTHER INFORMATION CONTACT: Diane Smith at (214) 665-2145.

SUPPLEMENTARY INFORMATION: In 1996, two Louisiana environmental groups, the Sierra Club and Louisiana Environmental Action Network (plaintiffs), filed a lawsuit in Federal Court against the EPA, styled Sierra Club, et al. v. Clifford, et al., No. 96-0527, (E.D. La.). Among other claims, plaintiffs alleged that the EPA failed to establish Louisiana TMDLs in a timely manner. The EPA proposes these three TMDLs pursuant to a consent decree entered in this lawsuit.

EPA Seeks Comment on Three TMDLs

By this notice the EPA is seeking comment on the following three TMDLs for waters located within Louisiana:

Subsegment | Waterbody name | Pollutant
040505 | Ponchatoula Creek and Ponchatoula River | Dissolved oxygen.
041201 | Bayou Labranche—Headwaters to Lake Pontchartrain (Scenic) (Estuarine) | Dissolved oxygen.
041805 | Lake Borgne Canal (Violet Canal)—MS River siphon at Violet to Bayou Dupre (Scenic) (Estuarine) | Dissolved oxygen.

The EPA requests the public provide to the EPA any water quality related data and information that may be relevant to the calculations for the three TMDLs. The EPA will review all data and information submitted during the public comment period and will revise the TMDLs where appropriate. The EPA will then forward the TMDLs to the Louisiana Department of Environmental Quality (LDEQ). The LDEQ will incorporate the TMDLs into its current water quality management plan.

Dated: November 28, 2011.
William K. Honker,
Acting Director, Water Quality Protection Division, EPA Region 6.

[FR Doc. 2011-31250 Filed 12-5-11; 8:45 am]

BILLING CODE 6560-50-P